DEPARTMENT OF HEALTH AND HUMAN SERVICES

Reflect Changes Being Made Within the Center for Medicare and Medicaid Innovation (CMMI)

AGENCY: Centers for Medicare & Medicaid Services, Center for Medicare and Medicaid Innovation.

SUMMARY: To reflect organizational changes within the Center for Medicare and Medicaid Innovation (CMMI).

SUPPLEMENTARY INFORMATION: Statement of Organization, Functions, and Delegations of Authority Part F of the Statement of Organization, Functions, and Delegations of Authority for the Department of Health and Human Services, Centers for Medicare & Medicaid Services (CMS) (last amended at Federal Register, Vol. 75, No. 56, pp. 14176-14178, dated March 24, 2010; Vol. 76, No. 203, pp. 65197-65199, dated October 20, 2011; Vol. 78, No. 86, p. 26051, dated May 3, 2013; Vol. 79, No. 2, pp. 397-398, dated January 3, 2014; and Vol. 84, No. 32, p. 4470, dated February 15, 2019) is amended to reflect organizational changes within the Center for Medicare and Medicaid Innovation (CMMI).

Part F, Section FC. 10 (Organization) is revised as follows:

Center for Medicare and Medicaid Innovation (CMMI), State and Population Health (FCPC)

Part F, Section FC. 20 (Functions) for the organization is as follows:

Executive Operations Staff (EOS)

The Executive Operations Staff (EOS) directs and leads administrative operations and provides support to CMMI management and staff on the full range of management and related administrative issues (i.e., personnel and recruitment issues, staff development, performance management, awards/recognition program, organizational analysis, correspondence, regulations, legislative and Freedom of Information Act activities, facilities management, and time and attendance). EOS is proposing the following changes:

The correspondence and clearance work will be realigned from EOS to PPG, Division of Alternative Payment Model Infrastructure (DAPMI). The purpose is to streamline and centralize the correspondence and clearance process.

The travel & conference, purchase card & supplies, and overtime & compensatory activities will be transitioned to EOS from BSG, Division of Budget & Administrative Services. The purpose is to unify the Center's business operations and services, enhance continuity in administrative services, and enable BSG's budget division to dedicate more effort to budget activities.

Coordinating FAC-COR training activities will be transitioned to EOS from BSG, Division of Central Contract Services. The purpose is to build a consistent training group within the Center that can track and execute COR training needs and enable BSG's contracts division to dedicate more effort to centralized contract activities.

The interagency agreement (IAA) super-user role will transition from EOS to BSG, Division of Central Contract Services. The purpose is to unify and streamline the Center's centralized contract services support.

The role as the Center's focal CMS Access Administrator (CAA) will be transitioned from BSG, Division of IT Operations & Security, to EOS to unify the Center's business operations and services and enhance continuity in Executive Operations services.

Business Services Group (BSG)

The Business Services Group provides leadership, direction, and guidance to the Center on matters impacting operations for the Center's models and other initiatives, including budget, financial, audit/compliance, travel, acquisition, IT, and project management operations. BSG is proposing the following changes:

Division of Budget & Administrative Services (DABAS)

As discussed above, transition travel & conference, purchase card & supplies, and overtime & compensatory activities to EOS. The purpose is to unify the Center's business operations and services, enhance continuity in administrative services, and enable BSG's budget division to dedicate more effort to budget activities.

Division of Central Contract Services (DCCS)

As discussed above, the interagency super-user role will transition from EOS to BSG, Division of Central Contract Services. The purpose is to unify and streamline the Center's centralized contract services support.

Coordination of FAC-COR training activities transition to EOS from BSG, Division of Central Contract Services (DCCS). The purpose is to build a consistent training group within the Center that can track and execute COR training needs and enable BSG's contracts division to dedicate more effort to centralized contract activities.

Division of IT Operations & Security (DITOS)

As discussed above, the role of the Center's focal CMS Access Administrator (CAA) will be transitioned from BSG, Division of IT Operations & Security (DITOS) to EOS to unify the Center's business operations and services and enhance continuity in Executive Operations Services.

The Innovation Payment Contract (IPC) will move from DITOS to DABAS.

Division of Application Design and Development (DADD)

Model Intake will move from the Division of Application Design and Development (DADD) to the Division of Program and Project Management (DPPM).

Division of Program and Project Management (DPPM)

The Division of Program and Project Management (DPPM) will be consolidated with Division of IT Operations & Security (DITOS) and renamed the Division of Systems Support, Operation, and Security (DSSOS).

The Division of Program and Project Management (DPPM) will be abolished.

The proposed reorganization will have four Divisions within BSG. We propose to rename three of the four divisions. The 4th Division retains the original name.

Prevention and Population Health Group (PPHG)

The Prevention and Population Health Group (PPHG) develops, tests, and implements models focused on advancing prevention and population health within the delivery system. PPHG's portfolio includes models focused on individual and community-based prevention, social determinants of health, Medicaid focused models, and opioids. There exist a number of synergies between the portfolios in PPHG and SIG including: leveraging new provider types and expanding the care team; enabling multi-payer whole system transformation; addressing and integrating behavioral health; addressing social determinants; engaging with states and with Medicaid as key partners. PPHG is proposing the following changes:

PPHG and SIG will be consolidated and renamed to the State and Population Health Group (SPHG). The purpose is to bring all of the Center's opioids work under one Group and capitalize on programmatic and operational synergies between two portfolios, and allow for better management over the combined work.

All PPHG divisions are being retained, with new names for two divisions to align to SPHG.

State Innovations Group (SIG)

The State Innovations Group (SIG) leverages CMS' role as a payer to catalyze delivery system transformation at the State level. SIG's portfolio includes models targeting State-based delivery system transformation efforts, multi/all payer models, and opioids. SIG's portfolio includes models targeting State-based delivery system transformation efforts, multi/all payer models, and opioids. Several synergies exist between SIG and PPHG, including leveraging new provider types and expanding the care team; enabling multi-payer whole system transformation; addressing and integrating behavioral health; addressing social determinants; engaging with states and Medicaid as key partners. SIG is proposing the following changes:

PPHG and SIG will be consolidated and renamed to the State and Population Health Group (SPHG). The purpose is to bring all of the Center's opioids work under one Group and capitalize on programmatic and operational synergies between two portfolios, and allow for better management over the combined work.

All SIG divisions are being retained, with new names for two divisions to align to SPHG. The FTEs for these divisions remain the same via the realignment. CMMI proposes to eliminate only the Group Director and Deputy Director level leadership positions. CMMI vacant management positions will be repurposed into new management slots. The changes here will have no effect on the staff or budget.

Division of State Innovations Models

The Division of State Innovations Models will be realigned to SPHG and renamed to the Division of State Based Initiatives (DSBI).

Division of All-Payer Models

The Division of All-Payer Models will be realigned to SPHG and renamed to the Division of Multi-Payer Models (DMPM).

Seamless Care Models Group (SCMG)

The Seamless Care Models Group identifies, designs, and tests innovative health care payment and delivery models that enable health care professionals to work together to care for patients across the continuum of health and different care settings. These models test accountability for population health and total cost of care in both fee-for-service and Medicare Advantage, and explore improvements to Medicare Part D. In addition to models for the general Medicare population, SCMG tests innovative payment structures for special beneficiary populations with unique needs, such as those with specific diseases or living in rural areas. Given the diversity of the portfolio, SCMG is seeking to streamline work captured within the group to focus on population risk and to realign work into more sensible model topic divisions. SCMG is proposing the following changes:

Division of Advanced Primary Care

Realignment of models dedicated to creating value-based care at the physician group practice level housed in the Division of Advanced Primary Care to the Patient Care Models Group (PCMG).

Division of Delivery System Demonstrations

Realignment of health plan innovation models in Medicare Part C and Part D from the Division of Financial Risk into the Division of Delivery System Demonstrations.

Rename the Division of Delivery System Demonstrations to the Division of Health Plan Innovation.

Division of Special Populations and Projects

Realign staff and rural health projects (e.g., Rural Community Hospital and Frontier Community Health Integration Project Demonstrations) from the Division of Delivery System Demonstrations to the Division of Special Populations and Projects given this Division's focus on special beneficiary populations.

Patient Care Models Group (PCMG)

The Patient Care Models Group identifies, designs, and tests innovative health care payment and delivery models to transform traditional fee-for-service payment into value-based design through total cost of care and prospective episodic payment, along with other payment structures, that leverage risk at critical points along an acute care continuum. These models largely target high-cost, fragmented specialty care along with models dedicated specifically to creating risk for physicians or providers as the accountable entity. PCMG also designs and implements payment models for post-acute and seriously ill populations. PCMG works on improving the accuracy of payment in fee-for-service, such as drug pricing, to move current payment levels closer to value and increase the accuracy of value payment targets built on fee-for-service payments.

PCMG is proposing the following changes:

Division of Technical Model Support (DTMS)

PCMG will eliminate the Division of Technical Model Support (DTMS), which has historically provided support functions of legal review and drafting of legal documents, data analytics, and operation approach, in light of the centralization of these support functions under PPG.

Division of Advanced Primary Care From SCMG

As discussed above, PCMG will acquire the Division of Advanced Primary Care from SCMG, along with its primary care models, as the physician is the accountable entity under these models. This creates five model operations divisions within PCMG.

Policy and Programs Group (PPG)

The Policy and Programs Group (PPG) leads CMMI's portfolio analysis process including inventorying concepts as they are considered for inclusion in the portfolio, cataloging final documentation on innovations tested by CMMI.

PPG is proposing the following changes:

Division of Alternative Payment Model Infrastructure

As discussed above, the correspondence and clearance work will realign from EOS to the Division of Alternative Payment Model Infrastructure. The purpose is to restructure the clearance process to involve the initial legal policy review and coordination with the clearance team, allowing for more targeted distribution and effective outcomes.

Division of Data Analytics

The mission and functions of the Division of Data Analytics will be reframed by providing structured data analytics, guidance, and technical support for new model development, existing model operations, data dissemination to model participants, payment policies and methodologies (e.g., risk adjustment), and educating staff on data availability, resources, and analytic methodologies.

Learning and Diffusion Group (LDG)

The Learning and Diffusion Group (LDG) provides leadership and strategic planning for a broad set of learning activities aimed at achieving rapid and broad-scale adoption of effective payment and care delivery models that improve health care and health for all Americans. LDG is proposing the following changes:

Division of Model Learning Systems (DMLS)

The proposed reorganization will consolidate all model-specific learning work into the Division of Model Learning Systems (DMLS).

LDG will administer model-specific learning system work from DMLS, enabling more seamless knowledge sharing and insight, efficient communication across model teams, and flexibility in work coverage. Model-specific learning system work will continue to include contract procurement and management, learning system design, implementation, evaluation, and refinement.

Division of Improvement Networks and Regional Engagement (DINRE)

The proposed reorganization will consolidate all cross-model stakeholder and engagement work, cross model learning data analytics, and model communication platforms into the Division of Improvement Networks and Regional Engagement (DINRE).

The Division of Improvement Networks and Regional Engagement (DINRE) will be renamed to Division of Analysis and Networks (DAN), to reflect its new portfolio better.

Division of Cross-Model Learning and Improvement (DCMLI)

Abolish the Division of Cross-Model Learning and Improvement (DCMLI) after reallocating its work to a remaining division.

Authority: 44 U.S.C. 3101.

Dated: October 20, 2022.
Xavier Becerra,
Secretary, Department of Health and Human Services.

[FR Doc. 2022-23206 Filed 10-24-22; 8:45 am]

BILLING CODE 4150-28-P